DEPARTMENT OF HOMELAND SECURITY

Coast Guard

33 CFR Part 117

[Docket No. USCG-2009-1075]

RIN 1625-AA09

Drawbridge Operation Regulation; Atlantic Intracoastal Waterway, Beaufort, SC

AGENCY: Coast Guard, DHS.

ACTION: Temporary rule.

SUMMARY: The Coast Guard is revising the operating schedule for the U.S. Highway 21, Sea Island Parkway Bridge at mile marker 536 over the Beaufort River (Atlantic Intracoastal Waterway). This bridge is also known as the Lady's Island Bridge. Due to ongoing construction on the McTeer Bridge, which is across the Atlantic Intracoastal Waterway at mile 539.0 in Port Royal, South Carolina, vehicle traffic is currently being rerouted from the McTeer Bridge to the Lady's Island Bridge. This rerouting has resulted in increased vehicle traffic congestion on the Lady's Island Bridge. As a result of the increased vehicle traffic congestion, Beaufort County has requested a revision to the federal regulation setting forth the Lady's Island Bridge operating schedule. Such a revision will alleviate excessive vehicle congestion on the Lady's Island Bridge while permitting sufficient access for maritime passage underneath the bridge.

DATES: This temporary final rule is effective from October 4, 2010 to October 4, 2011.

ADDRESSES: Documents indicated in this preamble as being available in the docket, are part of docket USCG-2009-1075 and are available by going to http://www.regulations.gov, inserting USCG-2009-1075 in the “Keyword” box, and then clicking “Search.” This material is also available for inspection or copying at the Docket Management Facility (M-30), U.S. Department of Transportation, West Building Ground Floor, Room W12-140, 1200 New Jersey Avenue, SE., Washington, DC, 20590, between 9 a.m. and 5 p.m., Monday through Friday, except Federal holidays.

FOR FURTHER INFORMATION CONTACT: If you have questions on this temporary rule, call or e-mail Mr. Gene Stratton, Coast Guard; telephone 305-415-6740, e-mail Allen.E.Stratton@uscg.mil. If you have questions on viewing the docket, call Renee V. Wright, Program Manager, Docket Operations, telephone 202-366-9826.

SUPPLEMENTARY INFORMATION:

Regulatory Information

The Coast Guard is issuing this temporary final rule without prior notice and opportunity to comment pursuant to authority under section 4(a) of the Administrative Procedure Act (APA) (5 U.S.C. 553(b)). This provision authorizes an agency to issue a rule without prior notice and opportunity to comment when the agency for good cause finds that those procedures are “impracticable, unnecessary, or contrary to the public interest.” Under 5 U.S.C. 553(b)(B), the Coast Guard finds that good cause exists for not publishing a notice of proposed rulemaking (NPRM) with respect to this rule because of increased vehicle congestion on the Lady's Island Bridge due to the rerouting of traffic from the McTeer Bridge, which is currently undergoing construction. Beaufort County Emergency Management has requested an immediate schedule change to alleviate this excessive vehicle congestion. The revised schedule for the Lady's Island Bridge does not unduly affect access to the waterway by the maritime public.

Under 5 U.S.C. 553(d)(3), the Coast Guard finds that good cause exists for making this rule effective less than 30 days after publication in the Federal Register. As described above, Beaufort County Emergency Management has requested an immediate schedule change to alleviate the excessive vehicle congestion on the Lady's Island Bridge.

Basis and Purpose

Two bridges serve Lady's Island, GA. Ongoing construction on the McTeer Bridge has resulted in the rerouting of vehicle traffic from the McTeer Bridge to the Lady's Island Bridge. Beaufort County Emergency Management has requested an immediate revision to the opening schedule for the Lady's Island Bridge at mile marker 536 over the Beaufort River (Atlantic Intracoastal Waterway). This operating schedule revision is necessary to accommodate increased vehicle traffic on the Lady's Island Bridge. The revised schedule will alleviate the excessive vehicle traffic that has resulted from the McTeer Bridge construction.

Discussion of Rule

The current schedule, as described in the Code of Federal Regulations, is as follows:

33 CFR 117.911(f) Lady's Island Bridge, across the Beaufort River, Mile 536.0 at Beaufort. The draw shall operate as follows:

(1) On Monday through Friday, except Federal holidays:

(i) From 7 a.m. to 9 a.m. and 4 p.m. to 6 p.m., the draw need not open; and,

(ii) Between 9 a.m. to 4 p.m., the draw need open only on the hour and half-hour.

(2) At all other times the draw shall open on signal.

This temporary rule changes the scheduled closing times for the Lady's Island Bridge to enable more closures during peak vehicle traffic times between 7:15 a.m. and 8:59 a.m., 11:15 a.m. and 12:59 p.m., and 4:15 p.m. to 5:59 p.m. This schedule revision also allows draw openings only on the hour between 9 a.m. and 4 p.m., rather than on both the hour and half-hour.

Regulatory Analyses

We developed this rule after considering numerous statutes and executive orders related to rulemaking. Below we summarize our analyses based on 13 of these statutes or executive orders.

Regulatory Planning and Review

This rule is not a significant regulatory action under section 3(f) of Executive Order 12866, Regulatory Planning and Review, and does not require an assessment of potential costs and benefits under section 6(a)(3) of that Order. The Office of Management and Budget has not reviewed it under that Order.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

This rule will affect the following entities, some of which may be small entities: The owners or operators of vessels intending to transit underneath the Lady's Island Bridge from 7:15 a.m. to 5:59 p.m. Monday through Friday, and who require that the draw be open in order to do so. These small entities will have a slightly decreased number of draw openings.

This rule will not have a significant economic impact on a substantial number of small entities for the following reasons: (1) The Lady's Island Bridge will continue to operate on demand outside the restricted hours of 7:15 a.m. to 5:59 p.m.; (2) the majority of vessels that transit underneath the bridge can safely do so without the draw being open; and (3) despite the decreased number of draw openings, there will still be several openings during the restricted hours.

Assistance for Small Entities

Under section 213(a) of the Small Business Regulatory Enforcement Fairness Act of 1996 (Pub. L. 104-121), we offer to assist small entities in understanding the rule so that they can better evaluate its effects on them and participate in the rulemaking process.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

Taking of Private Property

This rule will not cause a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and would not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This rule does not use technical standards. Therefore, we did not consider the use of voluntary consensus standards.

Environment

We have analyzed this rule under Department of Homeland Security Management Directive 023-01 and Commandant Instruction M16475.lD, which guide the Coast Guard in complying with the National Environmental Policy Act of 1969 (NEPA) (42 U.S.C. 4321-4370f), and have concluded that this action is one of a category of actions that do not individually or cumulatively have a significant effect on the human environment. This rule is categorically excluded, under figure 2-1, paragraph (32)(e), of the Instruction.

Under figure 2-1, paragraph (32)(e), of the Instruction, an environmental analysis checklist and a categorical exclusion determination are not required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and Department of Homeland Security Delegation No. 0170.1.

2. Suspend § 117.911(f) from October 4, 2010 until October 4, 2011.

3. From October 4, 2010 until October 4, 2011 add § 117.911(g) to read as follows:

§ 117.911 Atlantic Intracoastal Waterway, Little River to Savannah River.

* * * * *

(g) Lady's Island Bridge, across the Beaufort River, Mile 536.0 at Beaufort. The draw shall operate as follows:

(1) On Monday through Friday, except federal holidays:

(i) From 7:15 a.m. to 8:59 a.m., 11:15 a.m. to 12:59 p.m., and 4:15 p.m. to 5:59 p.m. the draw need not open; and

(ii) Between 9 a.m. to 11 a.m. and 1 p.m. to 4 p.m., the draw need open only on the hour.

(2) At all times other than those specified in (1) above, the draw shall open on signal.

Dated: September 21, 2010.
W.D. Baumgartner,
Rear Admiral, U.S. Coast Guard, Commander, Seventh Coast Guard District.

[FR Doc. 2010-24645 Filed 10-1-10; 8:45 am]

BILLING CODE 9110-04-P